DEPARTMENT OF THE INTERIOR

Bureau of Land Management

[WY-070-1232-DA]

Notice of Temporary Closure of Public Lands to Motorized Vehicle Use

AGENCY: Bureau of Land Management, Interior.

ACTION: Notice of temporary closure of certain public lands to all types of motor vehicle use in Sheridan County, Wyoming.

SUMMARY: Pursuant to 43 Code of Federal Regulations (CFR) Subpart 8364, the Bureau of Land Management (BLM) announces its intentions to temporarily close certain BLM-administered public lands to all types of motor vehicle use during the period of time the Buffalo Field Office develops, completes, and approves a management plan for recently acquired lands. These lands are hereafter referred to as “Welch Management Area.” This temporary closure is needed to protect public lands and resources from the effects of unauthorized use and motorized vehicle use of existing roads and two-track trails that were present when the land was transferred to the United States Government.

DATES: This temporary closure will be effective the date this notice is published in the Federal Register and will continue to either December 31, 2006, or when a management plan for the Welch Management Area is completed and approved, whichever comes first.

FOR FURTHER INFORMATION CONTACT: Chris Hanson, Buffalo Field Manager, or Jim Sparks, Assistant Field Manager, Buffalo Field Office, 1425 Fort Street, Buffalo, Wyoming 82834. Mr. Hanson and Mr. Sparks may also be contacted by telephone: (307) 684-1100.

SUPPLEMENTARY INFORMATION: The BLM-administered public lands affected by this closure include approximately 1,745 acres, more or less, in Sheridan County, Wyoming. These lands are:

T. 57 N., R. 84 W., 6th PM, Wyoming section 1, S½NE¼, SE¼NW¼, N½SW¼, SW¼SW¼; section 2, lots 2, 3, S½N½, S½; section 3, lots 3, 4, S½N½, N½S½, SE¼SE¼; section 4, lots 1 through 4, S½NE¼, SE¼NW¼, N½SE¼.

This area was known as “the Welch lands” and is further described in the Final Environmental Impact Statement for the Pittsburg and Midway Coal Mining Company Coal Exchange Proposal; (July 2003) and it's Record of Decision (November 2004). In exchange for Federal coal and other lands, the Welch lands were transferred to the United States Government from private ownership. Prior to the completion of the transfer, the area was subject to limited and controlled motorized vehicle use. The existing roads were neither constructed nor designed for unlimited vehicular traffic in all types of weather conditions.

Excessive use of the roads by motorized vehicles during wet weather conditions would be detrimental to the area and its associated natural resources. Soils in the area are highly erodible. Any motorized vehicular travel during certain conditions could greatly increase soil erosion and potentially increase sedimentation into the Tongue River, especially when off-road vehicles are used as the means of transport.

The BLM is in the process of developing a management plan for the area hereafter referred to as the Welch Management Area. The use of these lands; including use by motorized vehicles, will be addressed in the plan. During development of the management plan, the public will be invited to participate in its formation through their provision of comments and resource information.

Upon completion of the management plan, actions addressed in the plan will be implemented and the temporary closure will no longer be necessary. Maps of the planning area and information on land-use planning progress may be obtained from the Buffalo Field Office.

Main entry points to the area will be signed and posted as closed to travel by all types of motorized vehicles used by the public (i.e. any motorized vehicle including cars, trucks, sport utility vehicles, motorcycles, snowmobiles, all-terrain vehicles, etc.).

Information as to when the area would no longer be closed to motorized vehicular travel would be posted at the Buffalo Field Office. In addition, the BLM plans to announce the lifting of the closure through the media including but not limited to, announcement in local newspapers.

Temporary closure orders may be implemented as provided in 43 CFR, subparts 8341.2 and 8364.1. Violations of this closure are punishable by a fine not to exceed $1,000, and/or imprisonment; not to exceed 12 months.

Persons who are administratively exempt from this closure include: Any Federal, State or local officer or employee acting within the scope of their duties, members of any organized rescue or fire-fighting force in performance of an official duty, and any person holding written authorization from the Bureau of Land Management.

Dated: March 25, 2005.
Robert A. Bennett,
State Director.

[FR Doc. 05-13787 Filed 7-12-05; 8:45 am]

BILLING CODE 4310-22-P